NATIONAL ARCHIVES AND RECORDS ADMINISTRATION

Information Security Oversight Office

[NARA-2014-024]

National Industrial Security Program Policy Advisory Committee (NISPPAC)

AGENCY: National Archives and Records Administration (NARA).

ACTION: Notice of Advisory Committee Meeting.

SUMMARY: In accordance with the Federal Advisory Committee Act (5 U.S.C. app 2) and implementing regulation 41 CFR 101-6, NARA announces an upcoming meeting of the National Industrial Security Program Policy Advisory Committee (NISPPAC).

DATES: The meeting will be held on June 19, 2014, from 10:00 a.m. to 12:00 p.m.

ADDRESS: The Gaylord National Resort, 201 Waterfront Street, Prince George's Exhibition Hall B, National Harbor, MD 20745.

FOR FURTHER INFORMATION CONTACT: David O. Best, Senior Program Analyst, ISOO, National Archives Building, 700 Pennsylvania Avenue NW., Washington, DC 20408, telephone (202) 357-5123, or email david.best@nara.gov. Contact ISOO at ISOO@nara.gov and the NISPPAC at NISPPAC@nara.gov.

SUPPLEMENTARY INFORMATION: The purpose of this meeting is to discuss National Industrial Security Program policy matters. This meeting will be open to the public. However, due to space limitations and access procedures, the name and telephone number of individuals planning to attend must be submitted to the Information Security Oversight Office (ISOO) no later than Friday, June 13, 2014. ISOO will provide additional instructions for gaining access to the location of the meeting.

Dated: April 23, 2014
Patrice Little Murray,
Acting Committee Management Officer.

[FR Doc. 2014-09687 Filed 4-28-14; 8:45 am]

BILLING CODE 7515-01-P